DEPARTMENT OF VETERANS AFFAIRS

Veterans' Advisory Committee on Rehabilitation, Notice of Meeting

The Department of Veterans Affairs (VA) gives notice under the Federal Advisory Committee Act, 5 U.S.C. App. 2, that the Veterans' Advisory Committee on Rehabilitation will meet on April 30-May 2, 2013, in Room 501K at the Department of Veterans Affairs, 1800 G Street NW., Washington, DC. The meeting will begin at 8 a.m. each day and adjourn at 5 p.m. on April 30 and May 1 and at noon on May 2. The meeting is open to the public.

The purpose of the Committee is to advise the Secretary of Veterans Affairs on the rehabilitation needs of Veterans with disabilities and on the administration of VA's rehabilitation programs.

On April 30, the Committee will receive an overview by the Committee Chair; update on Vocational Rehabilitation and Employment; and discuss the vision for the Committee and the Committee's last report.

On May 1, the Committee members will be provided update briefings on various VA programs designed to enhance the rehabilitative potential of recently-discharged Veterans. Members will also begin consideration of potential recommendations to be included in the Committee's next annual report.

On May 2, the Committee members will receive an annual ethics briefing and discuss meeting presentations and development of Committee recommendations.

No time will be allocated at this meeting for oral presentations from the public. Interested parties should provide written comments for review by the Committee to Teri Nguyen, Designated Federal Officer, VA, Veterans Benefits Administration (28), 810 Vermont Avenue NW., Washington, DC 20420, or via email at Teri.Nguyen1@va.gov. In the communication with the Committee, writers must identify themselves and state the organization, association or person(s) they represent. Individuals who wish to attend the meeting should contact Ms. Nguyen at (202) 461-9634.

By Direction of the Secretary.
Dated: April 16, 2013.
Vivian Drake,
Committee Management Officer.

[FR Doc. 2013-09338 Filed 4-19-13; 8:45 am]

BILLING CODE P